DEPARTMENT OF VETERANS AFFAIRS

[OMB Control No. 2900-0161]

Agency Information Collection Activity Under OMB Review: Medical Expense Report

AGENCY: Veterans Benefits Administration, Department of Veterans Affairs.

ACTION: Notice.

SUMMARY: In compliance with the Paperwork Reduction Act (PRA) of 1995, this notice announces that the Veterans Benefits Administration, Department of Veterans Affairs, will submit the collection of information abstracted below to the Office of Management and Budget (OMB) for review and comment. The PRA submission describes the nature of the information collection and its expected cost and burden and it includes the actual data collection instrument.

DATES: Written comments and recommendations on the proposed collection of information should be received on or before September 5, 2023.

FOR FURTHER INFORMATION CONTACT: Maribel Aponte, Office of Enterprise and Integration, Data Governance Analytics (008), 810 Vermont Ave. NW, Washington, DC 20420, (202) 266-4688 or email maribel.aponte@va.gov. Please refer to “OMB Control No. 2900-0161” in any correspondence.

SUPPLEMENTARY INFORMATION:

Authority: U.S. Code: 38 U.S.C. 1503; U.S. Code: 38 U.S.C. 1541; U.S. Code: 38 U.S.C. 1543; U.S. Code: 38 U.S.C. 1315.

Title: VA Form 21P-8416, Medical Expense Report.

OMB Control Number: 2900-0161.

Type of Review: Revision of a currently approved collection.

Abstract: VBA would be unable to properly administer needs-based benefits without this collection of information. The information is collected on an ad hoc basis, and, therefore, cannot be collected less frequently. The form is designed to collect the minimum amount of information which will allow VBA to properly administer the program.

An agency may not conduct or sponsor, and a person is not required to respond to a collection of information unless it displays a currently valid OMB control number. The Federal Register Notice with a 60-day comment period soliciting comments on this collection of information was published at 88 FR 43013 on July 5, 2023, page 43013.

Affected Public: Individuals and households.

Estimated Annual Burden: 50,000.

Estimated Average Burden per Respondent: 30 minutes.

Frequency of Response: One time, or as needed.

Estimated Number of Respondents: 100,000.

By direction of the Secretary.
Dorothy Glasgow,
VA PRA Clearance Officer, (Alt) Office of Enterprise and Integration, Data Governance Analytics, Department of Veterans Affairs.

[FR Doc. 2023-19969 Filed 9-14-23; 8:45 am]

BILLING CODE 8320-01-P